DEPARTMENT OF JUSTICE

Notice of Lodging of Consent Decree Pursuant to the Comprehensive Environmental Response Compensation and Liability Act (“CERCLA”)

Notice is hereby given that on February 16, 2011, a proposed Consent Decree in United States v. Beazer East, Inc. et al., Civil Action No. 11-cv-1124, was lodged with the United States District Court for the Eastern District of Pennsylvania.

The proposed Consent Decree is between the United States on behalf of the United States Environmental Protection Agency (“EPA”) and Beazer East, Inc., Keystone Coke Co., Vesper Holdings, LLC, Swedeland Road Corp., RAGM Settlement Corp., RT Option Corp., RAGM Holding Company, and Crater Resources, Inc. (collectively, “Defendants”) The proposed Consent Decree resolves claims against Defendants under Section 107 of the Comprehensive Environmental Response, Compensation, and Liability Act, as amended (“CERCLA”), 42 U.S.C. 9607, related to the Crater Resources Superfund Site (“Site”) located in Upper Merion Township, Montgomery County, Pennsylvania. Under the proposed Consent Decree, Defendants agree to pay $1,380,000 to resolve the United States' claim for response costs incurred at the Site.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, D.C. 20044-7611, and should refer to United States v. Beazer East, Inc., et al., Civ. No. 11-cv-1124 (E.D.Pa.), D.J. Ref. 90-11-2-1283/3.

During the public comment period, the Consent Decree may be examined on the following Department of Justice Web site, http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.25 (25 cents per page reproduction cost) payable to the U.S. Treasury or, if by e-mail or fax, forward a check in that amount to the Consent Decree Library at the stated address.

Maureen Katz,
Assistant Chief, Environmental Enforcement Section, Environment and Natural Resources Division.

[FR Doc. 2011-4076 Filed 2-23-11; 8:45 am]

BILLING CODE 4410-15-P